COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be furnished by nonprofit agencies employing persons who are blind or have other severe disabilities, and delete services previously furnished by such agencies.

DATES: Comments must be received on or before: April 7, 2019.

ADDRESSES: Committee for Purchase from People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Grounds Maintenance

Mandatory for: Federal Aviation Administration, Charleston Air Traffic Control Tower, North Charleston, SC

Mandatory Source of Supply: Palmetto Goodwill Services, North Charleston, SC

Service Type: Janitorial Service

Mandatory for: Federal Aviation Administration, Peachtree-DeKalb System Support Center, Chamblee, GA

Mandatory Source of Supply: New Ventures Enterprises, Inc., LaGrange, GA

Contracting Activity: Federal Aviation Administration, FAA, Regional Acquisitions Services

Deletions

The following services are proposed for deletion from the Procurement List:

Services

Service Type: Janitorial/Mechanical Maintenance

Mandatory for: U.S. Federal Building 26 N. McDonald Street Mesa, AZ

Mandatory Source of Supply: Goodwill Community Services, Inc., Phoenix, AZ

Service Type: Janitorial/Grounds Maintenance

Mandatory for: U.S. Border Patrol: Support Building 501, 16 Heffernan Street, Calexico, CA

Mandatory Source of Supply: ARC-Imperial Valley, El Centro, CA

Service Type: Janitorial/Custodial

Mandatory for: U.S. Border Patrol: Customs Building and Truck Stop, 406 and 410 Virginia Street, San Diego, CA

Mandatory Source of Supply: Job Options, Inc., San Diego, CA

Service Type: Administrative Services

Mandatory for: GSA, Las Vegas: Las Vegas Field Office (sub Reno), 300 Booth Street, Reno, NV

Service Type: Administrative Services

Mandatory for: GSA, Federal Supply Service: 300 Ala Moana, Honolulu, HI

Mandatory Source of Supply: Goodwill Contract Services of Hawaii, Inc., Honolulu, HI

Contracting Activity: General Services Administration

Service Type: Custodial Services

Mandatory for: Internal Revenue Service Building: 106 S. 15th Street, Omaha, NE

Mandatory Source of Supply: Goodwill Specialty Services, Inc., Omaha, NE

Contracting Activity: Public Buildings Service, GSA/Public Buildings Service

Service Type: Laundry Service

Mandatory for: U.S. Navy, Naval Hospital Medical Center Clinic, 2000 West Marine View Drive, Everett, WA

Mandatory Source of Supply: Northwest Center, Seattle, WA

Contracting Activity: Dept of the Navy, Naval Hospital

Service Type: Mailroom Operations

Mandatory for: U.S. Army, Corpus Christi Army Depot, Corpus Christi, TX

Mandatory Source of Supply: Goodwill Industries of South Texas, Inc., Corpus Christi, TX

Contracting Activity: Dept of the Army, W6QK CCAD CONTR OFF

Service Type: Janitorial/Custodial

Mandatory for: Naval & Marine Corps Reserve Center, Broken Arrow, OK

Contracting Activity: Dept of the Navy, U.S. Fleet Forces Command

Patricia Briscoe,
Deputy Director, Business Operations (Pricing and Information Management).

[FR Doc. 2019-04200 Filed 3-7-19; 8:45 am]

BILLING CODE 6353-01-P